SMALL BUSINESS ADMINISTRATION

Data Collection Available for Public Comments and Recommendations

ACTION: Notice and request for comments.

SUMMARY: In accordance with the Paperwork Reduction Act of 1995, this notice announces the Small Business Administration's intentions to request approval on a new and/or currently approved information collection.

DATES: Submit comments on or before August 5, 2003.

ADDRESSES: Send all comments regarding whether this information collection is necessary for the proper performance of the function of the agency, whether the burden estimates are accurate, and if there are ways to minimize the estimated burden and enhance the quality of the collection, to Jill Baker, Director of Research, National Women's Business Council, Small Business Administration, 409 3rd Street, SW., 2nd Floor, Washington, DC 20416.

FOR FURTHER INFORMATION CONTACT: Jill Baker, Director of Research, 202-205-6826 or Curtis B. Rich, Management Analyst, 202-205-7030.

SUPPLEMENTARY INFORMATION: Title: “Alternate Sources of Capital for Women Business Owners.”

Form No.: N/A.

Description of Respondents: Women who have completed loan applications with Count Me In, an on-line micro-lender.

Annual Responses: 500.

Annual Burden: 79.

Jacqueline White,
Chief, Administrative Information Branch.

[FR Doc. 03-14299 Filed 6-5-03; 8:45 am]

BILLING CODE 8025-01-P